DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Standards and Security.

Time and Date: 9 a.m. to 5 p.m., March 25, 2003; 9 a.m. to 1 p.m., March 26, 2003.

Place: Hubert H. Humphrey Building, Room 505A on March 25, Room 705A on March 26, 200 Independence Avenue SW., Washington, DC.

Status: Open.

Purpose: The Subcommittee will continue the process of evaluating PMRI terminologies in order to select and recommend these terminologies as HIPAA PMRI Terminology Standards. The information that will be reviewed was gathered from the NCVHS PMRI Terminology Questionnaire in January and February 2003. Dr. Walter Sujansky, consultant to the Subcommittee, will present an analysis of the results from the questionnaire. The Subcommittee will then consider the issues raised by this analysis and determine whether additional information is needed from PMRI terminology developers. It will also formulate the questions that will be addressed by the users of PMRI terminologies when they testify to the Subcommittee on May 21st.

For Further Information Contact: Substantive program information as well as summaries of meetings and a roster of Committee members may be obtained from Karen Trudel, Senior Technical Advisor, Security and Standards Group, Centers for Medicare and Medicaid Services, MS: C5-24-04, 7500 Security Boulevard, Baltimore, MD 21244-1850, telephone: 410-786-9937; or Marjorie S. Greenberg, Executive Secretary, NCVHS, National Center for Health Statistics, Centers for Disease Control and Prevention, Room 1100, Presidential Building, 6525 Belcrest Road, Hyattsville, Maryland 20782, telephone: (301) 458-4245. Information also is available on the NCVHS home page of the HHS Web site: http://www.ncvhs.hhs.gov/ where an agenda for the meeting will be posted when available.

Notice: In the interest of security, HHS has instituted stringent procedures for entrance to the Hubert H. Humphrey building by non-government employees. Persons without a government identification card may need to have the guard call for an escort to the meeting.

Dated: March 14, 2003.
James Scanlon,
Acting Director, Office of Science and Data Policy, Office of the Assistant Secretary for Planning and Evaluation.

[FR Doc. 03-7108 Filed 3-25-03; 8:45 am]

BILLING CODE 4151-05-M